FEDERAL COMMUNICATIONS COMMISSION

47 CFR Part 73

[DA 02-2612; MM Docket No. 00-31; RM-9815, RM-10014, RM-10095]

Radio Broadcasting Services; Nogales, Vail and Patagonia, AZ

AGENCY: Federal Communications Commission.

ACTION: Final rule.

SUMMARY: This document dismisses an Application for Review filed by Big Broadcast of Arizona, LLC directed to the Report and Order in this proceeding. See 65 FR 11540, published March 3, 2000. With this action, the proceeding is terminated.

FOR FURTHER INFORMATION CONTACT: Robert Hayne, Media Bureau (202) 418-2177.

SUPPLEMENTARY INFORMATION: This is a synopsis of the Commission's Memorandum Opinion and Order in MM Docket No. 00-31, adopted October 9, 2002, and released October 18, 2002. The full text of this decision is available for inspection and copying during normal business hours in the FCC's Reference Information Center at Portals II, CY-A257, 445 12th Street, SW., Washington, DC 20554. The complete text of this decision may also be purchased from the Commission's copy contractor, Qualex International Portals II, 445 12th Street, SW., Room CY-B402, Washington, DC 20554, telephone 202-863-2893, facsimile 202-863-2898, or via e-mail qualexint@aol.com.

List of Subjects in 47 CFR Part 73

Radio, Radio broadcasting.

Federal Communications Commission.
John A. Karousos,
Assistant Chief, Audio Division, Media Bureau.

[FR Doc. 02-27693 Filed 10-30-02; 8:45 am]

BILLING CODE 6712-01-P